DEPARTMENT OF ENERGY

Extension of Public Comment Period, Draft Supplemental Environmental Impact Statement for Disposition of Depleted Uranium Oxide Conversion Product Generated from DOE's Inventory of Depleted Uranium Hexafluoride

AGENCY: Office of Environmental Management, U.S. Department of Energy.

ACTION: Extension of public comment period.

SUMMARY: On December 28, 2018, a Federal Register Notice was issued that announced the availability of the U.S. Department of Energy (DOE) Office of Environmental Management's Draft Supplemental Environmental Impact Statement for Disposition of Depleted Uranium Oxide Conversion Product Generated from DOE's Inventory of Depleted Uranium Hexafluoride (Draft SEIS) (DOE/EIS-0359-S1; DOE/EIS-0360-S1). The Federal Register Notice also announced three web-based public hearings that occurred on January 22 to 24, 2019, to obtain public comments. DOE is extending the public comment period for the Draft SEIS from February 11, 2019, to March 4, 2019.

DATES: DOE extends the public comment period on the notice published at 83 FR 67250 to March 4, 2019. DOE will consider all comments submitted or postmarked by March 4, 2019. Comments submitted to DOE concerning the Draft Supplemental Environmental Impact Statement prior to this announcement do not need to be resubmitted as a result of this extension of the comment period.

ADDRESSES: Written comments on the Draft Supplemental Environmental Impact Statement (SEIS) may be submitted by mail or email and additional information is found on the Depleted Uranium Oxide SEIS website:

• Mail: Ms. Jaffet Ferrer-Torres, Document Manager, Office of Environmental Management, Department of Energy, EM-4.22, 1000 Independence Avenue SW, Washington, DC 20585.

• Email: DUF6_NEPA@em.doe.gov.

• DU Oxide SEIS website: http://www.energy.gov/em/disposition-uranium-oxide-conversion-depleted-uranium-hexafluoride.

FOR FURTHER INFORMATION CONTACT: For further information, please contact Ms. Jaffet Ferrer-Torres, DOE Document Manager at the addresses listed in ADDRESSES. For information on DOE's NEPA process, please contact Mr. William Ostrum, Acting NEPA Compliance Officer, Office of Regulatory Compliance, U.S. Department of Energy, 1000 Independence Avenue SW, Washington, DC 20585; or email at askNEPA@hq.doe.gov.

SUPPLEMENTARY INFORMATION: The Draft Supplemental Environmental Impact Statement for Disposition of Depleted Uranium Oxide Conversion Product Generated from DOE's Inventory of Depleted Uranium Hexafluoride evaluates the potential environmental impacts associated with the transportation to final disposition of depleted uranium oxide conversion product from its depleted uranium hexafluoride conversion facilities at the Paducah, Kentucky, and Portsmouth, Ohio, sites at three alternative offsite low-level radioactive waste disposal facilities: the DOE-owned low-level radioactive waste disposal facility at the Nevada National Security Site in Nye County, Nevada; the EnergySolutions low-level radioactive waste disposal facility in Clive, Utah; and the Waste Control Specialists LLC low-level radioactive waste disposal facility in Andrews, Texas. The public comment period has been extended to March 4, 2019, to respond to requests for an extension of the public comment period.

Issued at Washington, DC, on January 30, 2019.
Elizabeth A. Connell,
Acting Associate Principal Deputy Assistant Secretary for Regulatory and Policy Affairs.

[FR Doc. 2019-01063 Filed 2-4-19; 8:45 am]

BILLING CODE 6450-01-P